NATIONAL COMMISSION ON TERRORIST ATTACKS UPON THE UNITED STATES

Public Testimony

ACTION: Notice of public testimony.

SUMMARY: The National Commission on Terrorist Attacks Upon the United States will take public testimony from Dr. Condoleezza Rice, Assistant to the President for National Security Affairs, at 9-11:30 a.m., on April 8, 2004, in Room 216 of the Hart Senate Office Building. The proceedings will be open to the public and members of the media. Seating will be provided on a first-come, first-served basis. Members of the media must register by the close of business on April 6, 2004, by visiting the Commission's Web site, http://www.9-11commission.gov. Members of the media, particularly photographers and radio and television broadcasters, also must contact the appropriate Senate Press Gallery for accreditation as soon as possible.

DATES: April 8, 2004, 9 a.m. to 11:30 a.m.

LOCATION: Hart Senate Office Building, Room 216, Washington, DC 20510.

FOR FURTHER INFORMATION CONTACT: Al Felzenberg or Jonathan Stull at (202) 401-1627, (202) 494-3538 (cellular), or jstull@9-11commission.gov.

SUPPLEMENTARY INFORMATION: Please refer to Pub. L. 107-306 (November 27, 2002), title VI (Legislation creating the Commission), and the Commission's Web site: http://www.9-11commission.gov.

Dated: April 5, 2004.
Philip Zelikow,
Executive Director.

[FR Doc. 04-8020 Filed 4-7-04; 8:45 am]

BILLING CODE 8800-01-M